DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Partnership Program Focus Groups and Interviews.

Form Number(s): None.

OMB Control Number: None.

Type of Request: New collection.

Burden Hours: 150.

Number of Respondents: 120.

Average Hours per Response: 48 minnutes.

Needs and Uses: For the 2010 Census, among the many other outreach efforts, the Census Bureau conducted the Partnership Program, involving commercial entities of national scope; State, local and Tribal governments; and regional and local corporations and organizations. The purpose of the Partnership Program was to target historically “hard-to-count” (HTC) areas in hopes of increasing census form mail-back rates. Over 800 National Partners participated in the 2010 Census Partnership Program. The program will continue to be an integral part of future inter-census year promotional activities. The proposed data collection for Partnership Program Research will assist the Census Bureau by (1) identifying the enhancers, incentives, and barriers to maintaining partner relationships over time; (2) investigating the rationales behind organizations refusing to participate in the Partnership Program; and (3) identifying the specific improvements to the Partnership Program that will lead to more engagement by Partnership organizations.

The Census Bureau needs to collect and analyze qualitative data to address the following research questions:

(a) How can the Partnership program be improved and the partnerships be maintained in the future during the intercensal years as well as for the 2020 Census?

(b) What metrics can be used to monitor and assess the impact of the Partnership Program in the intercensal years and for the 2020 Census?

Essentially, the research for which data collection approval is being sought seeks to inform the future direction, composition, and maintenance of this outreach program for the next eight or nine years, in preparation for the 2020 Census.

The Census Bureau proposes to collect qualitative data via six focus groups and 30 individual interviews among national Partnership Program participant organizations. The Census Bureau intends to ask program participants about ways the program can be improved, and ways in which their own participation can be enhanced in future years. The resulting qualitative data will be used by Census Bureau management staff to create recommendations for program redesign in order to improve the program in the years leading to the next Census.

Affected Public: Business or other for-profit; not-for-profit institutions; State, local or Tribal governments.

Frequency: One time.

Respondent's Obligation: Voluntary.

Legal Authority: Title 13 U.S.C., Sections 141 and 193.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: March 11, 2011.
Glenna Mickelson,
Management Analyst, Office of the Chief Information Officer.

[FR Doc. 2011-6119 Filed 3-15-11; 8:45 am]

BILLING CODE 3510-07-P